DEPARTMENT OF DEFENSE

Office of the Secretary

[Docket ID: DoD-2015-OS-0030]

Privacy Act of 1974; System of Records

AGENCY: Office of the Secretary of Defense, DoD.

ACTION: Notice to alter a System of Records.

SUMMARY: The Office of the Secretary of Defense proposes to alter a system of records, DWHS E04, entitled “Privacy Act Case Files” in its inventory of record systems subject to the Privacy Act of 1974, as amended. Information is being collected and maintained for the purpose of processing Privacy Act requests and administrative appeals; for participating in litigation regarding agency action on such requests and appeals; and for assisting the Department of Defense in carrying out any other responsibilities under the Privacy Act of 1974, as amended.

DATES: Comments will be accepted on or before May 11, 2015. This proposed action will be effective the date following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in the FOR FURTHER INFORMATION CONTACT section or at the Defense Privacy and Civil Liberties Division Web site at http://dpcld.defense.gov/.

The proposed system report, as required by U.S.C. 552a(r) of the Privacy Act of 1974, as amended, was submitted on April 1, 2015, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 6, 2015.
Aaron Siegel,
Alternate OSD Federal Register Liaison Officer, Department of Defense.

DWHS E04

System name:

Privacy Act Case Files (October 29, 2012, 77 FR 65539)

Changes:

* * * * *

System location:

Delete entry and replace with “Freedom of Information Division, Executive Services Directorate, Washington Headquarters Services, 4800 Mark Center Drive, Alexandria, VA 22350-3100.

Office of the Secretary of Defense/Joint Staff (OSD/JS) Privacy Office, Executive Services Directorate, Washington Headquarters Services, 4800 Mark Center Drive, Alexandria, VA 22350-3100.

Department of Defense Education Activity (DODEA), Privacy Act Office, Executive Services Office, Office of the Chief of Staff, 4800 Mark Center Drive, Alexandria, VA 22350-1400.

Defense Manpower Data Center (DMDC) Boyers, 1137 Branchton Road, Boyers, PA 16016-0001.

DoD Consolidated Adjudication Facility (DoD CAF), 600 10th Street, Ft. Meade, MD 20755-5615.”

Categories of individuals covered by the system:

Delete entry and replace with “Individuals (and attorneys representing individuals) who have requested documents and/or submitted appeals for denial of access or amendment under the provisions of the Privacy Act (PA) from the OSD/JS, the DODEA, the DMDC (personnel security records), and the DoD CAF.”

Categories of records in the system:

Delete entry and replace with “Records created or compiled in response to Privacy Act requests and administrative appeals, individual's name, request number, original and copies of requests and administrative appeals; responses to such requests and administrative appeals; all related memoranda, correspondence, notes, and other related or supporting documentation.”

Authority for maintenance of the system:

Delete entry and replace with “5 U.S.C. 552a, The Privacy Act of 1974, as amended; 10 U.S.C. 113, Secretary of Defense; 32 CFR part 310, DoD Privacy Program; 32 CFR part 311, OSD Privacy Program; DoD 5400.11-R, Department of Defense Privacy Program; and Administrative Instruction 81, OSD/Joint Staff Privacy Program.”

* * * * *

Routine uses of records maintained in the system, including categories of users and the purposes of such uses:

Delete entry and replace with “In addition to those disclosures generally permitted under 5 U.S.C. 552a(b) of the Privacy Act of 1974, as amended, the records contained herein may specifically be disclosed outside the DoD as a routine use pursuant to 5 U.S.C. 552a(b)(3) as follows:

Law Enforcement Routine Use: If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Congressional Inquiries Disclosure Routine Use: Disclosure from a system of records maintained by a DoD Component may be made to a congressional office from the record of an individual in response to an inquiry from the congressional office made at the request of that individual.

Disclosure to the Department of Justice for Litigation Routine Use: A record from a system of records maintained by a DoD Component may be disclosed as a routine use to any component of the Department of Justice for the purpose of representing the Department of Defense, or any officer, employee, or member of the Department in pending or potential litigation to which the record is pertinent.

Disclosure of Information to the National Archives and Records Administration Routine Use: A record from a system of records maintained by a DoD Component may be disclosed as a routine use to the National Archives and Records Administration for the purpose of records management inspections conducted under authority of 44 U.S.C. 2904 and 2906.

Data Breach Remediation Purposes Routine Use: A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.

The DoD Blanket Routine Uses set forth at the beginning of the Office of the Secretary of Defense (OSD) compilation of systems of records notices may apply to this system. The complete list of DoD Blanket Routine Uses can be found online at: http://dpcld.defense.gov/Privacy/SORNsIndex/BlanketRoutineUses.aspx.”

* * * * *

Safeguards:

Delete entry and replace with “Records are maintained in security containers with access only to officials whose access is based on requirements of assigned duties. Access to electronic records requires use of Common Access Card (CAC) login and role-based access by individuals who have a demonstrated need-to-know.”

Retention and disposal:

Delete entry and replace with “Responses granting access to all the requested records, responses to requests for nonexistent records, to requesters who provide inadequate descriptions, or to those who fail to pay agency reproduction fees: Records are destroyed 2 years after the date of reply.

Responses denying access to all or part of the records requested which are not appealed are destroyed 5 years after date of reply.

Appellate files are destroyed/deleted 4 years after final determination by OSD appellate authority.”

System manager(s) and address:

Delete entry and replace with “OSD/JS initial requests case files: Chief, Freedom of Information Division, Executive Services Directorate, Washington Headquarters Services, 4800 Mark Center Drive, Alexandria, VA 22350-3100.

OSD/JS access and amendment appellate files: Chief, OSD/JS Privacy Office, Executive Services Directorate, Washington Headquarters Services, 4800 Mark Center Drive, Alexandria, VA 22350-3100.

DoDEA case files: Chief, Department of Defense Education Activity, Privacy Office, Executive Services Office, Office of the Chief of Staff, 4800 Mark Center Drive, Alexandria, VA 22350-1400.

DMDC personnel security case files: Defense Manpower Data Center (DMDC) Boyers, ATTN: Privacy Act Office, P.O. Box 168, Boyers, PA 16020-0168.

DoD CAF case files: Privacy Officer, DoD Consolidated Adjudication Facility, 600 10th Street, Ft. Meade, MD 20755-5615.”

Notification procedure:

Delete entry and replace with “Individuals seeking to determine whether information about themselves is contained in this system of records should address written inquiries to:

OSD/JS initial request and appellate case files: Chief, Freedom of Information Division, Executive Services Directorate, Washington Headquarters Services, 4800 Mark Center Drive, Alexandria, VA 22350-3100.

OSD/JS access and amendment appellate files: Chief, OSD/JS Privacy Office, Executive Services Directorate, Washington Headquarters Services, 1155 Defense Pentagon, Washington, DC 20301-1155.

DoDEA case files: Chief, Department of Defense Education Activity, Privacy Act Office, Executive Services Office, Office of the Chief of Staff, 4800 Mark Center Drive, Alexandria, VA 22350-1400.

DMDC personnel security case files: Defense Manpower Data Center (DMDC) Boyers, ATTN: Privacy Act Office, P.O. Box 168, Boyers, PA 16020-0168.

DoD CAF case files: Privacy Access Requests, DoD Consolidated Adjudications Facility, 600 10th Street, Ft. Meade, MD 20755-5615.

Signed, written requests must include the individual's name and address, and this system of records notice name and number.”

Record access procedures:

Delete entry and replace with “Individuals seeking to access their record should address written inquiries to:

OSD/JS initial request and appellate case files: Chief, Freedom of Information Division, Executive Services Directorate, Washington Headquarters Services, 4800 Mark Center Drive, Alexandria, VA 22350-3100.

DoDEA case files: Chief, Department of Defense Education Activity, Privacy Act Office, Executive Services Office, Office of the Chief of Staff, 4800 Mark Center Drive, Alexandria, VA 22350-1400.

DMDC personnel security case files: Defense Manpower Data Center (DMDC) Boyers, ATTN: Privacy Act Office, P.O. Box 168, Boyers, PA 16020-0168, Boyers, PA 16020-0168.

DoD CAF case files: Privacy Officer, DoD Consolidated Adjudication Facility, 600 10th Street, Ft. Meade, MD 20755-5615.

Signed, written requests must include the individual's name and/or request number, and this system of records notice name and number.

Additional information for DoDEA records: If a parent or legal guardian is requesting records pertaining to his or her minor child or ward, he/she must also provide evidence of that relationship. The parent may provide one of the following: A copy of the child's school enrollment form signed by the parent, a copy of a divorce decree or travel order that includes the child's name, an order of guardianship, or a declaration stating that he/she is the parent or legal guardian of the minor or incapacitated child.

Additional information for DMDC personnel security and DoD CAF records: When requesting these records, the requester must also provide a notarized statement or an unsworn declaration made in accordance with 28 U.S.C. 1746, in the following format:

If executed without the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).'

Attorneys or other persons acting on behalf of an individual must provide written authorization from that individual for their representative to act on their behalf.”

Contesting Record procedures:

Delete entry and replace with “The OSD rules for accessing records, for contesting contents and appealing initial agency determinations are published in OSD Administrative Instruction 81; 32 CFR part 311; or may be obtained from the system manager.”

* * * * *

[FR Doc. 2015-08195 Filed 4-9-15; 8:45 am]

BILLING CODE 5001-06-P